DEPARTMENT OF COMMERCE

International Trade Administration

[C-570-140]

Certain Mobile Access Equipment and Subassemblies Thereof From the People's Republic of China: Postponement of Preliminary Determination in the Countervailing Duty Investigation

AGENCY: Enforcement and Compliance, International Trade Administration, Department of Commerce.

DATES: Applicable May 4, 2021.

FOR FURTHER INFORMATION CONTACT: William Langley at (202) 482-3861 or Theodore Pearson at (202) 482-2631, AD/CVD Operations, Office I, Enforcement and Compliance, International Trade Administration, U.S. Department of Commerce, 1401 Constitution Avenue NW, Washington, DC 20230.

SUPPLEMENTARY INFORMATION:

Background

On March 18, 2021, the Department of Commerce (Commerce) initiated a countervailing duty (CVD) investigation of imports of certain mobile access equipment and subassemblies thereof (mobile access equipment) from the People's Republic of China (China).¹ Currently, the preliminary determination is due no later than May 24, 2021.

¹ See Certain Mobile Access Equipment and Subassemblies Thereof from the People's Republic of China: Initiation of Countervailing Duty Investigation, 86 FR 15905 (March 25, 2021).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On April 26, 2021, the petitioner ² submitted a timely request that Commerce postpone the preliminary CVD determination.³ The petitioner stated that it requests postponement so that Commerce has adequate time to analyze questionnaire responses from the mandatory respondents and the Government of China.⁴

² The petitioner is the Coalition of American Manufacturers of Mobile Access Equipment.

³ See Petitioner's Letter, “Certain Mobile Access Equipment and Subassemblies Thereof from the People's Republic of China: Request for Postponement of Preliminary Determination,” dated April 26, 2021.

⁴ Id.

In accordance with 19 CFR 351.205(e), the petitioner stated the reasons for requesting a postponement of the preliminary determination, and Commerce finds no compelling reason to deny the request. Therefore, in accordance with section 703(c)(1)(A) of the Act, Commerce is postponing the deadline for the preliminary determination to no later than 130 days after the date on which this investigation was initiated, i.e., July 26, 2021. Pursuant to section 705(a)(1) of the Act and 19 CFR 351.210(b)(1), the deadline for the final determination of this investigation will continue to be 75 days after the date of the preliminary determination.

This notice is issued and published pursuant to section 703(c)(2) of the Act and 19 CFR 351.205(f)(1).

Dated: April 28, 2021.
Christian Marsh,
Acting Assistant Secretary for Enforcement and Compliance.

[FR Doc. 2021-09317 Filed 5-3-21; 8:45 am]

BILLING CODE 3510-DS-P